DEPARTMENT OF THE TREASURY

Internal Revenue Service

26 CFR Part 1

[TD 9186]

RIN 1545-BD42

Qualified Amended Returns; Correction

AGENCY: Internal Revenue Service (IRS), Treasury.

ACTION: Correction to a correction to temporary regulations.

SUMMARY: This document corrects a correction to temporary regulations (TD 9186) which was published in the Federal Register on June 23, 2005 (70 FR 36345). The temporary regulations modify the rules relating to qualified amended returns by providing additional circumstances that end the period within which a taxpayer may file an amended return that constitutes a qualified amended return.

DATES: This correction is effective on March 2, 2005.

FOR FURTHER INFORMATION CONTACT: Nancy Galib, (202) 622-4940 (not a toll-free number).

SUPPLEMENTARY INFORMATION:

Background

The temporary regulations (TD 9186) that is the subject of this correction is under section 6664 of the Internal Revenue Code.

Need for Correction

As published, the correction to the temporary regulations (TD 9186) contains an error that may prove to be misleading and is in need of clarification.

Correction of Publication

Accordingly, the publication of the correction to the temporary regulations (TD 9186) that is the subject of FR Doc. 05-12386, is corrected as follows:

On page 36345, column 2, in the preamble, under the paragraph heading “Background”, line 3, the language “are under section 6227 of the Internal” is corrected to read “are under section 6664 of the Internal”.

Cynthia E. Grigsby,
Acting Chief, Publications and Regulations Branch, Legal Processing Division, Associate Chief Counsel, (Procedures and Administration).

[FR Doc. 05-14902 Filed 7-27-05; 8:45 am]

BILLING CODE 4830-01-P